U.S.-CHINA ECONOMIC AND SECURITY REVIEW COMMISSION

Notice of Open Public Hearing

AGENCY: U.S.-China Economic and Security Review Commission.

ACTION: Notice of open public hearing—July 16, 2008, Washington, DC.

SUMMARY: Notice is hereby given of the following hearing of the U.S.-China Economic and Security Review Commission.

Name: Larry Wortzel, Chairman of the U.S.-China Economic and Security Review Commission.

The Commission is mandated by Congress to investigate, assess, evaluate and report to Congress annually on “the national security implications and impact of the bilateral trade and economic relationship between the United States and the People's Republic of China.”

Pursuant to this mandate, the Commission will hold a public hearing in Washington, DC on July 16, 2008 to address “Research and Development and Technological Advances in Key Industries in China.”

Background

This event is the eighth in a series of public hearings the Commission will hold during its 2008 report cycle to collect input from leading academic, industry, and government experts on the impact of the economic and national security implications of the U.S. bilateral trade and economic relationship with China. The July 16 hearing will examine domestic and foreign-funded research and development, Chinese development in key industries, and the changing nature of China's trade flows.

The July 16 hearing will address “Research and Development and Technological Advances in Key Industries in China” and will be co-chaired by Commissioners Michael Wessel and Dennis Shea.

Information on hearings, as well as transcripts of past Commission hearings, can be obtained from the USCC Web Site http://www.uscc.gov.

Copies of the hearing agenda will be made available on the Commission's Web site http://www.uscc.gov as soon as available. Any interested party may file a written statement by July 16, 2008, by mailing to the contact below. On July 16, the hearing will be held in two sessions, one in the morning and one in the afternoon. There will be a question and answer period between the Commissioners and the witnesses.

DATE AND TIME: Wednesday, July 16, 2008, 8:30 a.m. to 4:45 p.m. Eastern Daylight Time. A detailed agenda for the hearing will be posted to the Commission's Web site at http://www.uscc.gov in the near future.

ADDRESSES: The hearing will be held on Capitol Hill in Room 106 Dirksen Senate Office Building located at First Street and Constitution Avenue, NE., Washington, DC 20510. Public seating is limited to about 50 people on a first come, first served basis. Advance reservations are not required.

FOR FURTHER INFORMATION CONTACT: Any member of the public wishing further information concerning the hearing should contact Kathy Michels, Associate Director for the U.S.-China Economic and Security Review Commission, 444 North Capitol Street, NW., Suite 602, Washington, DC 20001; phone: 202-624-1409, or via email at kmichels@uscc.gov.

Authority: Congress created the U.S.-China Economic and Security Review Commission in 2000 in the National Defense Authorization Act (Pub. L. 106-398), as amended by Division P of the Consolidated Appropriations Resolution, 2003 (Pub. L. 108-7), as amended by Pub. L. 109-108 (November 22, 2005).

Dated: June 23, 2008.
Kathleen J. Michels,
Associate Director, U.S.-China Economic and Security Review Commission.

[FR Doc. E8-14533 Filed 6-25-08; 8:45 am]

BILLING CODE 1137-00-P